DEPARTMENT OF HOMELAND SECURITY

Coast Guard

33 CFR Part 117

[Docket No. USCG-2016-0645]

Drawbridge Operation Regulation; State Boat Channel, Captree Island, NY

AGENCY: Coast Guard, DHS.

ACTION: Notice of deviation from drawbridge regulation.

SUMMARY: The Coast Guard has issued a temporary deviation from the operating schedule that governs the Captree State Parkway Bridge across the State Boat Channel, mile 30.7 at Captree Island, New York. This deviation is necessary to allow the bridge owner to perform painting and steel repairs.

DATES: This deviation is effective from September 6, 2016 to December 16, 2016.

ADDRESSES: The docket for this deviation, [USCG-2016-0645] is available at http://www.regulations.gov. Type the docket number in the “SEARCH” box and click “SEARCH”. Click on Open Docket Folder on the line associated with this deviation.

FOR FURTHER INFORMATION CONTACT: If you have questions about this temporary deviation, call or email Judy Leung-Yee, Project Officer, First Coast Guard District, telephone (212) 514-4330, email judy.k.leung-yee@uscg.mil.

SUPPLEMENTARY INFORMATION:

The Captree State Parkway Bridge, mile 30.7, across the State Boat Channel, has a vertical clearance in the closed position of 29 feet at mean high water and 30 feet at mean low water. The existing bridge operating regulations are found at 33 CFR 117.799(i).

The waterway is transited by seasonal recreational traffic.

New York State DOT, the owner of the bridge, requested a temporary deviation from the normal operating schedule to perform painting and steel repairs.

Under this temporary deviation, the Captree State Parkway Bridge will not open for marine traffic from September 6, 2016 to December 16, 2016.

Vessels able to pass under the bridge in the closed position may do so at anytime. The bridge will not be able to open for emergencies and there is no immediate alternate route for vessels to pass.

The Coast Guard will inform the users of the waterways through our Local Notice and Broadcast to Mariners of the change in operating schedule for the bridge so that vessel operations can arrange their transits to minimize any impact caused by the temporary deviation.

In accordance with 33 CFR 117.35(e), the drawbridge must return to its regular operating schedule immediately at the end of the effective period of this temporary deviation. This deviation from the operating regulations is authorized under 33 CFR 117.35.

Dated: July 14, 2016.
C.J. Bisignano,
Supervisory Bridge Management Specialist, First Coast Guard District.

[FR Doc. 2016-17006 Filed 7-18-16; 8:45 am]

BILLING CODE 9110-04-P